DEPARTMENT OF LABOR

Employment and Training Administration

[TA-W-41,837]

Kurt Manufacturing Company, Minneapolis, MN; Notice of Negative Determination Regarding Application for Reconsideration

By application received on October 2, 2002, petitioners requested administrative reconsideration of the Department's negative determination regarding eligibility for workers and former workers of the subject firm to apply for Trade Adjustment Assistance (TAA). The denial notice applicable to workers of Kurt Manufacturing Company, Minneapolis, Minnesota was signed on September 10, 2002, and published in the Federal Register on September 27, 2002 (67 FR 61160).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition, filed on behalf of workers at Kurt Manufacturing Company, Minneapolis, Minnesota, engaged in activities related to screw and precision machine parts, was denied because the “contributed importantly” group eligibility requirement of section 222(3) of the Trade Act was not met. The contributed importantly test is generally demonstrated through a survey of customers of the workers' firm. Results of the survey revealed that customers did not increase their imports of competitive products during the relevant period. The subject firm did not import screw and precision machine parts during the relevant period. A domestic shift in production was cited as the cause of layoffs.

In requesting reconsideration, the petitioner(s) alleged that a company official had cited overseas competition as a factor in causing the layoffs at the Kurt Manufacturing Company, Minneapolis, Minnesota, plant.

On further review, including contact with a company official, it was confirmed that the preponderance in sales and employment declines during the relevant period were the direct result of a domestic shift in production to other company facilities possessing excess capacity. The facilities did not produce products like or directly competitive with what the subject plant produced prior to the shift in production. Further, it was confirmed that the company's customer base did not decline during the relevant period.

Conclusion

After review of the application and investigative findings, I conclude that there has been no error or misinterpretation of the law or of the facts which would justify reconsideration of the Department of Labor's prior decision. Accordingly, the application is denied.

Signed in Washington, DC, this 6th day of February, 2003.
Edward A. Tomchick,
Director, Division of Trade Adjustment Assistance.

[FR Doc. 03-4284 Filed 2-21-03; 8:45 am]

BILLING CODE 4510-30-P